FEDERAL COMMUNICATIONS COMMISSION

47 CFR Chapter I

[CB Docket No. 18-31; DA 18-115]

Possible Revision or Elimination of Rules

AGENCY: Federal Communications Commission.

ACTION: Review of regulations; comments requested.

SUMMARY: This document invites members of the public to comment on the Commission's rules to be reviewed pursuant to section 610 of the Regulatory Flexibility Act of 1980, as amended (RFA). The purpose of the review is to determine whether Commission rules whose ten-year anniversary dates are in the years 2015-2016, as contained in the Appendix, should be continued without change, amended, or rescinded in order to minimize any significant impact the rules may have on a substantial number of small entities. Upon receipt of comments from the public, the Commission will evaluate those comments and consider whether action should be taken to rescind or amend the relevant rule(s).

DATES: Comments may be filed on or before October 29, 2018.

FOR FURTHER INFORMATION CONTACT: Sharon K. Stewart, Women's Outreach Specialist, Office of Communications Business Opportunities (OCBO), Federal Communications Commission, (202) 418-0990. People with disabilities may contact the FCC to request reasonable accommodations (accessible format documents, sign language interpreters, CART, etc.) by email: fcc504@fcc.gov or phone: 202-418-0530 or TTY: 202-418-0432.

ADDRESSES: You may submit comments, identified by CB Docket No. 18-31, by any of the following methods:

• Federal Communications Commission's Website: http://apps.fcc.gov/ecfs//. Follow the instructions for submitting comments.

• People with Disabilities: Contact the FCC to request reasonable accommodations (accessible format documents, sign language interpreters, CART, etc.) by email: FCC504@fcc.gov or phone: 202-418-0530 or TTY: 888-835-5322.

For detailed instructions for submitting comments and additional information on the rulemaking process, see the SUPPLEMENTARY INFORMATION section of this document.

SUPPLEMENTARY INFORMATION: Each year the Commission will publish a list of ten-year old rules for review and comment by interested parties pursuant to the requirements of section 610 of the RFA.

Synopsis

1. Pursuant to the Regulatory Flexibility Act (RFA), see 5 U.S.C. 610, the FCC hereby publishes a plan for the review of rules adopted by the agency in calendar years 2005-2006 which have, or might have, a significant economic impact on a substantial number of small entities. The purpose of the review is to determine whether such rules should be continued without change, or should be amended or rescinded, consistent with the stated objective of section 610 of the RFA, to minimize any significant economic impact of such rules upon a substantial number of small entities.

2. This document lists the FCC regulations to be reviewed during the next twelve months. In succeeding years, as here, the Commission will publish a list for the review of regulations promulgated ten years preceding the year of review.

3. In reviewing each rule in a manner consistent with the requirements of section 610, the FCC will consider the following factors:

(a) The continued need for the rule;

(b) The nature of complaints or comments from the public concerning the rule;

(c) The complexity of the rule;

(d) The extent to which the rule overlaps, duplicates, or conflicts with other federal rules and, to the extent feasible, with state and local governmental rules; and

(e) The length of time since the rule has been evaluated or the degree to which technology, economic conditions, or other factors have changed in the area affected by the rule.

4. Appropriate information has been provided in the Appendix for each rule, as chosen for review by the FCC according to the requirements of section 610, including a Brief Description of the rule and the need for, and Legal Basis of, the rule. The public is invited to comment on these rules, and all relevant and timely comments will be considered by the FCC before final action is taken in this proceeding.

5. Pursuant to sections 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

Electronic Filers: Comments may be filed electronically using the internet by accessing the ECFS: http://apps.fcc.gov/ecfs/.

Paper Filers: Parties who choose to file by paper must file an original and one copy of each filing. If more than one docket or rulemaking number appears in the caption of this proceeding, filers must submit two additional copies for each additional docket or rulemaking number. Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th St. SW, Room TW-A325, Washington, DC 20554. The filing hours are 8:00 a.m. to 7:00 p.m. All hand deliveries must be held together with rubber bands or fasteners. Any envelopes and boxes must be disposed of before entering the building.

Commercial overnight mail (other than U.S. Postal Service Express Mail and Priority Mail) must be sent to 9050 Junction Drive, Annapolis Junction, MD 20701.

U.S. Postal Service first-class, Express, and Priority mail must be addressed to 445 12th Street SW, Washington, DC 20554.

People with Disabilities: To request materials in accessible formats for people with disabilities (Braille, large print, electronic files, audio format), send an email to fcc504@fcc.gov or call the Consumer & Governmental Affairs Bureau at 202-418-0530 (voice), 202-418-0432 (tty).

6. The proceeding this Notice initiates shall be treated as a “permit-but-disclose” proceeding in accordance with the Commission's ex parte rules.¹ Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

¹ 47 CFR 1.1200 et seq.

7. For information on the requirements of the RFA, the public may contact Sharon K. Stewart, Women's Outreach Specialist, Office of Communications Business Opportunities, 202-418-0990 or visit www.fcc.gov/ocbo.

Federal Communications Commission.
Sanford S. Williams,
Director, Office of Communications Business Opportunities.

List of rules for review pursuant to the Regulatory Flexibility Act of 1980, 5 U.S.C. Section 610, for the ten-year period beginning in the year 2005 and ending in the year 2006. All listed rules are in title 47 of the Code of Federal Regulations.

PART 1—PRACTICE AND PROCEDURE

Subpart E—Complaints, Applications, Tariffs, and Reports Involving Common Carriers

Brief Description: Section 1.767 sets forth the application filing requirements for submarine cable landing licenses. Section 1.768 sets forth the notification and prior approval requirements for submarine cable landing licensees that are or propose to become affiliated with a foreign carrier.

Need: The rules are needed to implement the Commission's policies that facilitate the expansion of capacity and facilities-based competition in the submarine cable market. These measures are designed to enable international carriers to respond to the demands of the market with minimal regulatory oversight and delay, saving time and resources for both the industry and government, while preserving the Commission's ability to guard against anticompetitive behavior.

Legal Basis: 47 U.S.C. 151, 154(i), 154(j), 155, 225, 303(r), 309 and 325(e).

Section Number and Titles:

1.767(a), (a)(5), (a)(7)-(11), (g)-(n) Cable landing licenses.

1.768, (h)-(j) Notification by and prior approval for submarine cable landing licensees that are or propose to become affiliated with a foreign carrier.

Subpart F—Wireless Radio Services Applications and Proceedings

Brief Description: Part 1 states the general rules of practice and procedure before the Federal Communications Commission. Subpart F sets forth the requirements and conditions under which entities may be licensed in the Wireless Radio Services as described in parts 1, 13, 20, 22, 24, 26, 27, 74, 80, 87, 90, 95, 97 and 101.

Need: These recodifications of Part 22 rules (1.958 and 1.959) establish the required distance and terrain elevation calculation methods applicable to all Wireless Radio Services (except Parts 21 and 101) (Parts 1, 20, 22, 24, 27, 80 87, 90, 95, and 97); implement the Commission's policies with regard to the processing of applications (1.913(a)(6) and 1.919(b)(5)) and the protection of Federal Government operations (1.924(e)); and revise the procedures for the amateur service vanity call sign system (1.934(d)(5)). The need for these rules is ongoing.

Legal Basis: 15 U.S.C 79 et seq.; 47 U.S.C. 151, 154, 154(i), 154(j), 155, 157, 225, 227, 303, 303(r), 307, 309 and 332.

Section Number and Titles:

1.913(a)(6) Application and notification forms; electronic and manual filing.

1.919(b)(5) Ownership Information.

1.924(e)(4) Quiet zones. (Revised 2015)

1.934(d)(5) Defective applications and dismissal.

1.958 Distance computation. (Revised 2014)

1.959 Computation of average terrain elevation.

Subpart G—Schedule of Statutory Charges and Procedures for Payment

Brief Description: These rules specify the schedule of annual regulatory fees and filing locations for the designated payors.

Need: Congress sets the amount the Commission must collect each year in the Commission's fiscal year appropriations. Section 9(a)(2) of the Communications Act of 1934, as amended (Communications Act or Act) requires the Commission to collect fees sufficient to offset the amount appropriated.² These rules specify the fees for the Commission's regulatees.

² 47 U.S.C. 159(a)(2).

Legal Basis: 47 U.S.C. 159.

Section Number and Titles:

1.1102 Table amended—Schedule of charges for applications and other filings in the wireless telecommunications services.

1.1107 Table corrected—Schedule of charges for applications and other filings for the international services.

1.1152 Table amended—Schedule of annual regulatory fees and filing locations for wireless radio services.

1.1153 Revised—Schedule of annual regulatory fees and filing locations for mass media services.

1.1154 Revised—Schedule of annual regulatory charges for common carrier services.

1.1155 Revised—Schedule of regulatory fees for cable television services.

1.1156 Revised—Schedule of regulatory fees for international services.

Subpart Q—Competitive Bidding Proceedings

Brief Description: Part 1 states the general rules of practice and procedure before the Federal Communications Commission. Subpart Q sets forth the provisions implementing Section 309(j) of the Communications Act of 1934, as amended, authorizing the Commission to employ competitive bidding procedures to resolve mutually exclusive applications for certain initial licenses.

Need: These rules are needed on an ongoing basis to implement the Commission's competitive bidding authority under Section 309(j) of the Communications Act of 1934, as amended, including the designated entity and tribal land bidding credit programs.

Legal Basis: 47 U.S.C. 151, 154(i), 154(j), 155, 157, 225, 303(r) and 309(j).

Section Number and Titles:

1.2104(j)(1)-(2) Competitive bidding mechanisms. (Renumbered 2014)

1.2107(g) Submission of down payment and filing of long-form applications.

1.2111(b)(2)(ii) Assignment or transfer of control: Unjust enrichment. (Renumbered 2015)

1.2112(b)(1)(iii)-(iv) Ownership disclosure requirements for applications. (Revised 2016)

1.2114 Reporting of eligibility event. (Revised 2015)

Subpart Y—International Bureau Filing System

Brief Description: Subpart Y describes the procedures for electronic filing of international and satellite services applications using the International Bureau Filing System (IBFS).

Need: Subpart Y is necessary as it codifies the use of the International Bureau Filing System (IBFS) as an official method of filing applications related to satellite and international telecommunications services with the Commission. Electronic filing improves the speed and efficiency of application processing and also expedites the availability of application information for public use and inspection.

Legal Basis: 47 U.S.C. 151, 154(i), 154(j), 155, 225, 303(r), 309 and 325(e).

Section Number and Titles: (originally codified at 1.9000-9018).

1.10000 What is the purpose of these rules?

1.10001 Definitions.

1.10002 What happens if the rules conflict?

1.10003 When can I start operating?

1.10004 What am I allowed to do if I am approved?

1.10005 What is IBFS?

1.10006 Is electronic filing mandatory?

1.10007, (a)-(c) What applications can I file electronically?

1.10008 What are IBFS file numbers?

1.10009 What are the steps for electronic filing?

1.10010 Do I need to send paper copies with my electronic applications?

1.10011 Who may sign applications?

1.10012 When can I file on IBFS?

1.10013 How do I check the status of my application after I file it?

1.10014 What happens after officially filing my application?

1.10015 Are there exceptions for emergency filings?

1.10016 How do I apply for special temporary authority?

1.10017 How can I submit additional information?

1.10018 May I amend my application?

PART 2—FREQUENCY ALLOCATIONS AND RADIO TREATY MATTERS; GENERAL RULES AND REGULATIONS

Subpart J—Equipment Authorization Procedures

Brief Description: An application for certification of a software defined radio must include the information required by section 2.944.

Need: Section 2.1033 ensures that applications for certification include information sufficient to demonstrate compliance with all pertinent requirements. Paragraph (c)(18) requires an application for certification of a software defined radio to include an exhibit that addresses the specific requirements of Section 2.944, Software defined radios. Pursuant to that section, in order to assure that the device may only operate within the radio parameters for which it was approved, manufacturers must take steps to ensure that only software that has been approved for use with the software defined radio can be loaded into the radio. This rule affects small entities that are identified as manufacturers.

Legal Basis: 47 U.S.C. 154, 302a, 303, and 336, unless otherwise noted.

Section Number and Title:

2.1033 Application for certification.

PART 15—RADIO FREQUENCY DEVICES

Subpart B—Unintentional Radiators

Brief Description: All TV broadcast receivers shipped in interstate commerce or imported into the United States, for sale or resale to the public, shall comply with the provisions of this section, except that paragraphs (f) and (g) of this section shall not apple to the features of such sets that provide for reception of digital television signals.

Need: This rule contains requirements adopted pursuant to the All-Channel Receiver Act, 47 U.S.C. 303(s), to ensure that that TV receivers are capable of adequately receiving all channels allocated for the TV broadcast service.

Legal Basis: 47 U.S.C. 154, 302a, 303, 304, 307, 336, 544a, and 549.

Section Number and Title:

15.117 TV broadcast receivers.

Subpart C—Intentional Radiators

Brief Description: Client devices that operate in a master/client network may be certified if they have the capability of operating outside permissible part 15 frequency bands, provided they operate on only permissible part 15 frequencies under the control of the master device with which they communicate.

Need: This rule benefits equipment manufacturers by allowing the certification of transmitters that can be used in multiple countries, thus reducing equipment costs, while minimizing the likelihood that these devices will operate outside permissible frequency bands within the United States and cause interference to authorized services.

Legal Basis: 47 U.S.C. 154, 302a, 303, 304, 307, 336, 544a, and 549.

Section Number and Title:

15.202 Certified operating frequency range.

Brief Description: Section 15.231(a)(5) allows remote control devices to be operated with transmission durations greater than five seconds but less than ten seconds during equipment setup.

Need: There is a need, in some cases, to allow installers of complex security systems to initiate transmissions for greater than the five seconds duration otherwise permitted under Section 15.231. To minimize the likelihood of interference to authorized users of the spectrum the rule limits setup transmissions to no more than ten seconds. This allows manufacturers flexibility in the design of complex security systems while limiting the increase in interference potential of those systems.

Legal Basis: 47 U.S.C. 154, 302a, 303(e), 303, 304, 307, 336, 544a, and 549.

Section Number and Title:

15.231 Periodic operation in the band 40.66-40.70 MHz and above 70 MHz.

PART 20—COMMERCIAL MOBILE SERVICES

Brief Description: Part 20 rules set forth the Commission's requirements and conditions for commercial mobile radio service providers under the Communications Act of 1934, as amended.

Need: These rules are needed on an ongoing basis to implement the Commission's interconnection regulations between local exchange carriers and commercial mobile radio service providers, including compensation and arbitration obligations.

Legal Basis: 47 U.S.C. 151, 152(a), 154(i), 157, 160, 201, 214, 222, 251(e), 301, 302, 303, 303(b), 303(r), 307(a), 309(j)(3), 316(a), 332, 610, 615, 615a, 615b and 615c.

Section Number and Titles:

20.11(d), (e) Interconnection to facilities of local exchange carriers.

Brief Description: Section 20.19 requires providers of covered mobile services and the manufacturers of handsets used with these services to offer a selection of hearing aid-compatible handsets. Providers and manufacturers must ensure that a certain minimum percentage or number of the handsets that they offer meet a specified rating for compatibility with hearing aids in acoustic coupling mode (coupling via the hearing aid microphone) and inductive coupling mode (coupling via a telecoil), as measured under Commission-approved technical standards. In 2005, section 20.19 was amended by adding subsection (b)(4), which directs states that adopt and enforce the Commission's hearing aid compatibility rules on delegated authority to refer to the Commission's Office of Engineering and Technology any questions involving factual determinations of whether particular equipment complies with the Commission-approved technical standards.

Need: Section 20.19 implements, for wireless handsets, the statutory requirement under 47 U.S.C. 610(b) that telephones and devices used for advanced communications services provide internal means for effective use with compatible hearing aids. The rule is also necessary to ensure reasonable access to commercial mobile services by persons with impaired hearing, as required under 47 U.S.C. 610(a).

Legal Basis: 47 U.S.C. 151, 154(i), 157, 160, 201, 202, 208, 214, 301, 302, 303, 308, 309(j), 310, and 610.

Section Number and Title:

20.19(b)(4) Hearing aid-compatible mobile handsets; technical standards.

PART 22—PUBLIC MOBILE SERVICES

Subpart E—Paging and Radiotelephone Service

Brief Description: In 2006, this rule added clarification on reimbursement and relocation expenses when an emerging technologies (ET) services licensee relocates a paired Paging and Radiotelephone Services (PARS) link under certain conditions.

Need: As part of the effort to transition microwave channels for use by ET services, this provision promotes the transition and accomplishes regulatory parity with a similar provision in Part 27. The need for this rule is ongoing.

Legal Basis: 47 U.S.C. 154, 222, 303, 309 and 332.

Section Number and Title:

22.602(k) Transition of the 2110-2130 and 2160-2180 MHz channels to emerging technologies; Reimbursement and relocation expenses in the 2110-2130 MHz and 2160-2180 MHz bands.

Subpart G—Air-Ground Radiotelephone Service

Brief Description: These rules refined the Commercial Aviation Air-Ground Systems within the Air-Ground Radiotelephone Service. Section 22.853 limits any Air-Ground Radiotelephone Service licensee to the use of no more than 3 MHz of spectrum in the service bands. Section 22.877 defines unacceptable interference to non-cellular Part 90 licensees from this service as equivalent to the definition in Section 22.970 applicable to the Cellular Radiotelephone Service. Section 22.878 outlines the obligations to abate unacceptable interference from commercial aviation ground stations, divided into strict responsibility for single licensees, and joint and several responsibility for multiple licensees. Section 22.879 outlines the interference resolution procedures applicable to licenses for commercial aviation ground stations after a certain date, including notification, interference analysis, and mitigation. Section 22.880 enforces information exchange between this service and public safety/critical infrastructure industry licensees, requiring notification upon request of activation or modification of a ground station site. Section 22.881 defines the service to be subject to competitive bidding, according to the procedures set forth in Part 1, Subpart Q of the same Chapter. Finally, Section 22.882 establishes bidding credits for eligible designated entities to reduce the cost of winning bids for commercial Air-Ground Radiotelephone Service licenses.

Need: In refining the statutory requirements for the Commercial Aviation Air-Ground Radiotelephone Service, which remains in operation today, these rules contain various provisions that advance the interests of small businesses, including those providing for access to the spectrum and those imposing interference limitations, abatement and resolution procedures, including information exchange and notification, to provide small business licensees with further leverage to receive protection from interference. Finally, the rules establish bidding credits for eligible designated entities to encourage participation in the Air-Ground Radiotelephone Services for small and very small businesses as defined. The need for these rules is ongoing.

Legal Basis: 47 U.S.C. 154, 222, 303, 309 and 332.

Section Number and Titles:

22.853 Eligibility to hold interest in licenses limited to 3 MHz of spectrum.

22.877 Unacceptable interference to part 90 non-cellular 800 MHz licensees from commercial aviation air-ground systems.

22.878 Obligation to abate unacceptable interference.

22.879 Interference resolution procedures.

22.880 Information exchange.

22.881 Air-Ground Radiotelephone Service subject to competitive bidding.

22.882 Designated entities.

PART 25—SATELLITE COMMUNICATIONS

Subpart A—General

Brief Description: Part 25 contains the Commission's rules governing the licensing and operation of space stations and earth stations. It includes application requirements, technical requirements, operational requirements, and coordination requirements for various satellite services. The rules also define the Commission's processing of applications.

Need: The Part 25 rules are needed to ensure that satellite services may be provided without harmful interference and consistent with the public interest.

Legal Basis: 47 U.S.C. 154, 301, 302, 303, 307, 309, 310, 319, 332, 605, 721.

Section Number and Titles:

25.103 Definitions.

25.109(c) Cross reference.

Subpart B—Applications and Licenses

25.110 Filing of applications, fees, and number of copies.

25.111(b), (c) Additional information, ITU filings, and ITU cost recovery.

25.112(a)(3), (b) introductory text Dismissal and return of applications.

25.113 Heading and (a) [formerly partially in 25.136, 25.143(i), (j), (k)], (g), (h) Station licenses and launch authority.

25.114 Applications for space station authorizations.

25.115(a)(1), (2)(iii), (c)(1), (2), (e), (f) [formerly primarily in 25.134] Applications for earth station authorizations.

25.116(b)(5), (c) introductory text, (d), (e) Amendments to applications.

25.117(a), (c), (d)(1), (2), (3), (g) Modification of station license.

25.118(b), (e) Modifications not requiring prior authorization.

25.119(a), (c), (d), (g) Assignment or transfer of control of station authorization.

25.120(b) Application for special temporary authorization.

25.121 License term and renewals.

25.129 Equipment authorization for portable earth-station transceivers.

25.130(a), (f) Filing requirements for transmitting earth stations.

25.131(a), (b), (h), (i), (j) Filing requirements and registration for receive-only earth stations.

25.132(a) Verification of earth station antenna performance.

25.133(a), (b) Period of construction; certification of commencement of operation.

25.135(c), (d) Licensing provisions for earth station networks in the non-voice, non-geostationary Mobile-Satellite Service.

25.287 [formerly partially in 25.136] Requirements pertaining to operation of mobile stations in the NVNG, 1.5/1.6 GHz, 1.6/2.4 GHz, and 2 GHz Mobile-Satellite Service bands.

25.137 Requests for U.S. market access through non-U.S.-licensed space stations.

25.138(a) introductory text, (a)(6), (f) Licensing requirements for GSO FSS earth stations in the conventional Ka-band.

25.139 NGSO FSS coordination and information sharing between MVDDS licensees in the 12.2 GHz to 12.7 GHz band.

25.140(a) [formerly generally in 25.140(b)] Further requirements for license applications for GSO space station operation in the FSS and the 17/24 GHz BSS.

25.142(a)(1) Licensing provisions for the non-voice, non-geostationary Mobile-Satellite Service.

25.285 [formerly generally in 25.143(i), (j), (k)] Operation of MSS and ATC transmitters or transceivers on board civil aircraft.

25.143(b)(1) Licensing provisions for the 1.6/2.4 GHz mobile-satellite service and 2 GHz mobile-satellite service.

25.144(b) Licensing provisions for the 2.3 GHz satellite digital audio radio service.

25.145 Licensing provisions for the FSS in the 18.3-20.2 GHz and 28.35-30.0 GHz bands.

25.146 Licensing and operating rules for the NGSO FSS in the 10.7-14.5 GHz bands.

25.148 Licensing provisions for the Direct Broadcast Satellite Service.

25.149 (a)(1) note added Application requirements for ancillary terrestrial components in Mobile-Satellite Service networks operating in the 1.5/1.6 GHz and 1.6/2.4 GHz Mobile-Satellite Service.

25.151(c)(2), (d), (e) Public notice.

25.154(a)(3), (c), (d), (e) Opposition to applications and other pleadings.

25.155 Mutually exclusive applications.

25.156(d) Consideration of applications.

25.157 Consideration of applications for NGSO-like satellite operation.

25.158 Consideration of applications for GSO-like satellite operation.

25.159 Limits on pending applications and unbuilt satellite systems.

25.161(a) Automatic termination of station authorization.

25.164 Milestones.

25.165 Surety bonds.

Subpart C—Technical Standards

25.202(a)(1), (3), (4), (5), (6), (7), (8) Frequencies, frequency tolerance, and emission limits.

25.203(a), (b), (c), (d), (i) introductory text, (k) Choice of sites and frequencies.

25.204(a), (b), (h), (i) Power limits for earth stations.

25.205 Minimum antenna elevation angle.

25.208(a), (c), (d), (l), (m), (o), (p)-(v) Power flux density limits.

25.209(f) Earth station antenna performance standards.

25.210(c) [formerly in 25.215], (f), (j) Technical requirements for space stations.

25.211 heading, (d), (e) Analog video transmissions in the Fixed-Satellite Services.

25.212 heading, (c), (d), (e) Narrowband analog transmissions, digital transmissions and video transmissions in the GSO Fixed-Satellite Service.

25.213(b) Inter-Service coordination requirements for the 1.6/2.4 GHz mobile-satellite service.

25.216 Limits on emissions from mobile earth stations for protection of aeronautical radionavigation-satellite service.

25.217 Default service rules.

25.220 Non-routine transmit/receive earth station operations.

25.221 Blanket licensing provisions for earth stations on vessels (ESVs) receiving in the 3700-4200 MHz (Earth-to-space) frequency band and transmitting in the 5925-6426 MHz (space-to-Earth) frequency band, operating with Geostationary Satellites in the Fixed-Satellite Service.

25.222 Blanket Licensing provisions for Earth Stations on Vessels (ESVs) receiving in the 10.95-11.2 GHz (space-to-Earth), 11.45-11.7 GHz (space-to-Earth), 11.7-12.2 GHz (space-to-Earth) frequency bands and transmitting in the 14.0-14.5 GHz (Earth-to-space) frequency band, operating with Geostationary Satellites in the Fixed-Satellite Service.

25.253 Special requirements for ancillary terrestrial components operating in the 1626.5-1660.5 MHz/1525-1559 MHz bands.

25.254 Special requirements for ancillary terrestrial components operating in the 1610-1626.5 MHz/2483.5-2500 MHz bands.

25.255 Procedures for resolving harmful interference related to operation of ancillary terrestrial components operating in the 1.5/1.6 GHz and 1.6/2.4 GHz bands.

25.256 Special Requirements for operations in the 3.65-3.7 GHz band.

25.258 Sharing between NGSO MSS feeder-link stations and GSO FSS services in the 29.25-29.5 GHz band.

25.261 Procedures for avoidance of in-line interference events for Non Geostationary Satellite Orbit (NGSO) Satellite Network Operations in the Fixed-Satellite Service (FSS) Bands.

Subpart D—Technical Operations

25.271(b), (c) introductory text, (c)(5), (e), (f) Control of transmitting stations.

25.274(e), (f) [redesignated as new (g)], new (f) Procedures to be followed in the event of harmful interference.

25.277(b), (c), (d), (f) Temporary fixed earth station operations.

25.280 Inclined orbit operations.

25.282 Orbit raising maneuvers.

25.283 End-of-life disposal.

25.284 Emergency Call Center Service.

Subpart F—Competitive Bidding Procedures for DARS

25.401 Satellite DARS applications subject to competitive bidding.

25.404 Submission of down payment and filing of long-form applications.

Subpart I—Equal Employment Opportunities

25.601 Equal employment opportunities.

Subpart J—Public Interest Obligations

25.701 Other DBS Public interest obligations.

PART 27—MISCELLANEOUS WIRELESS COMMUNICATIONS SERVICE

Subpart A—General Information

Brief Description: Part 27 contains service and licensing rules for Miscellaneous Wireless Communications Services. Subpart A contains general information.

Need: The revised rules specify that the part 27 rules apply to the Broadband Radio (BRS) and Educational Broadband (EBS) service frequencies in the 2495-2690 MHz. They also add a reference to part 74, the rule part applicable to experimental radio, auxiliary, special broadcast and other program distributional services, as also being applicable to Wireless Communications Service. The need for these rules is ongoing.

Legal Basis: 47 U.S.C. 154, 301, 302, 303, 307, 309, 332, 336, 337, 1403, 1404 and 1451.

Section Number and Titles:

27.1(b)(9) Basis and purpose.

27.3(o) Other applicable rule parts.

Subpart C—Technical Standards

Brief Description: Part 27 contains service and licensing rules for Miscellaneous Wireless Communications Services. Subpart C contains technical standards applicable to a number of services and frequency bands.

Need: The additional rules add power limits for particular types of services that may be offered as BRS or EBS, as well as the measurement procedures and an alternative out of band emissions limit for BRS. The need for these rules is ongoing.

Legal Basis: 47 U.S.C. 154, 301, 302, 303, 307, 309, 332, 336, 337, 1403, 1404 and 1451.

Section Number and Titles:

27.50(h)(3), (4) Power limits and duty cycle.

27.53(m)(6), (7) Emission limits.

Subpart L—1695-1710 MHz, 1710-1755 MHz, 1755-1780 MHz, 2110-2155 MHz, 2155-2180 MHz, 2180-2200 MHz Bands

Brief Description: Part 27 contains service and licensing rules for Miscellaneous Wireless Communications Services. Subpart L contains rules that are applicable to AWS-1 (Advanced Wireless Service) stations operating in the 1710-1755/2110-2155 MHz band and rules applicable to AWS-3 stations operating in the 1695-1710 and 1755-1780/2155-2180 MHz bands and to AWS-4 stations operating in the 2000-2020/2180-2200 MHz bands.

Need: The revised rules establish the relocation and cost sharing rules for relocation of incumbent microwave stations and BRS stations out of the spectrum reallocated to create the AWS bands. The need for these rules is ongoing.

Legal Basis: 47 U.S.C. 154, 301, 302, 303, 307, 309, 332, 336, 337, 1403, 1404 and 1451.

Section Number and Titles:

Cost-Sharing Policies Governing Microwave Relocation from the 2110-2150 MHz and 2160-2200 MHz Bands

27.1160 Cost-sharing requirements for AWS.

27.1162 Administration of the Cost-Sharing Plan.

27.1164 The cost-sharing formula.

27.1166 Reimbursement under the Cost-Sharing Plan.

27.1168 Triggering a reimbursement obligation.

27.1170 Payment issues.

27.1172 Dispute resolution under the Cost-Sharing Plan.

27.1174 Termination of cost-sharing obligations.

Cost-Sharing Policies Governing Broadband Radio Service Relocation From the 2150-2160/62 MHz Band

27.1176 Cost-sharing requirements for AWS in the 2150-2160/62 MHz band.

27.1178 Administration of the Cost-Sharing Plan.

27.1180 The cost-sharing formula.

27.1182 Reimbursement under the Cost-Sharing Plan.

27.1184 Triggering a reimbursement obligation.

27.1186 Payment issues.

27.1188 Dispute resolution under the Cost-Sharing Plan.

27.1190 Termination of cost-sharing obligations.

Subpart M—Broadband Radio Service and Educational Broadband Service

Brief Description: Part 27 contains service and licensing rules for Miscellaneous Wireless Communications Services. Subpart M contains specific rules applicable to the Broadband Radio (BRS) and Educational Broadband (EBS) services that operate in the 2500-2690 MHz band.

Need: The rules specified in 47 CFR 27.1201-27.1221 provide grandfather rights for certain commercial EBS licenses and licensees holding channel E and F licenses, and establish maximum terms for leases of EBS frequencies. The rules in 47 CFR 27.1250-27.1255 establish procedures for relocating Broadband Radio Service licensees from the 2150-2160/62 MHz band to accommodate deployment of Advanced Wireless Service. The need for these rules is ongoing.

Legal Basis: 47 U.S.C. 154, 301, 302, 303, 307, 309, 332, 336, 337, 1403, 1404 and 1451.

Section Number and Titles:

27.1201(d) EBS eligibility.

27.1214(e) EBS spectrum leasing arrangements and grandfathered leases.

27.1216 Grandfathered E and F group EBS licenses.

Technical Standards

27.1221(c), (d) and (e) Interference protection.

Brief Description: Part 27 contains service and licensing rules for Miscellaneous Wireless Communications Services. Subpart M contains specific rules applicable to the Broadband Radio (BRS) and Educational Broadband (EBS) services that operate in the 2500-2690 MHz band.

Need: The rules in 47 CFR 27.1230-27.1239, including the specific provisions below, establish procedures governing the transition of the 2500-2690 MHz band from use by the Multipoint Distribution Service (MDS), the Multichannel Multipoint Distribution Service (MMDS) and the Instructional Television Fixed Service (ITFS) to use by the Broadband Radio Service (BRS) and the Educational Broadband Service (EBS). Since this transition has been completed, these rules are no longer needed.

Legal Basis: 47 U.S.C. 154, 301, 302, 303, 307, 309, 332, 336, 337, 1403, 1404 and 1451.

Section Number and Titles:

Policies Governing the Transition of the 2500-2690 MHz Band BRS and EBS

27.1232(d)(3), (4) Planning the transition.

27.1235(d) Post-transition notification.

27.1236 Self-transitions.

27.1237 Pro rata allocation of transition costs.

27.1238 Eligible costs.

27.1239 Reimbursement obligation.

Relocation Procedures for 2150-2160/62 MHz

27.1250 Transition of the 2150-2160/62 MHz band from the Broadband Radio Service to the Advanced Wireless Service.

27.1251 Mandatory negotiations.

27.1252 Involuntary relocation procedures.

27.1253 Sunset provisions.

27.1254 Eligibility.

27.1255 Relocation criteria for Broadband Radio Service licensees in the 2150-2160/62 MHz band.

PART 43—REPORTS OF COMMUNICATION COMMON CARRIERS AND CERTAIN AFFILIATES

Brief Description: Section 43.51 imposes on U.S. telecommunications carriers identified in section 43.51(b) a general obligation to file with the Commission, within 30 days of execution thereof, a copy of all contracts, agreements, concessions, licenses, authorizations, operating agreements, or other arrangements (including amendments) to which it is a party with respect to exchange of services, the interchange or routing of traffic, and matters concerning rates, accounting rates, divisions of tolls, or the basis of settlement of traffic balances. Section 43.51(b)(1) provides that the general filing rule applies to domestic dominant carriers. Section 43.51(b)(2) provides that the filing rule applies to U.S. international carriers that have been classified as dominant on any route included in the contract (other than those so classified because of a foreign-carrier affiliation under Section 63.10). Section 43.51(c) provides that contracts for domestic-only service do not need to be filed with the Commission but need to be made available upon reasonable request. Section 43.51(d) states that any U.S. carrier, other than a provider of commercial radio services, that is engaged in foreign communications, and enters into an agreement with a foreign carrier, is subject to the Commission's authority to require the U.S. carrier providing service on any U.S.-international routes to file, on an as-needed basis, a copy of each agreement to which it is a party.

Need: The general rule in section 43.51 that carriers must file copies of their contracts and operating agreements is needed to require domestic dominant carriers to file their contracts and to address issues on the U.S.-Cuba route and more generally allow the Commission to obtain contracts for routes on which there is, or has been an allegation of, anticompetitive conduct. ISP Reform Order, 19 FCC Rcd 5709, 5736 (2009).

Legal Basis: 47 U.S.C. 154, 211, 219 and 220.

Section Number and Title:

43.51 Contracts and concessions.

PART 54—UNIVERSAL SERVICE

Subpart A—General Information

Brief Description: Part 54 rules implement section 254 of the Communications Act of 1934, as amended, concerning the Federal universal service program. This rule adopts a new definition of “rural area” for the rural health care program.

Need: This rule establishes a definition that accurately defines the rural areas eligible for support under the rural health care program.

Legal Basis: 47 U.S.C. 151, 154(i), 154(j), 201-205, 214, 254, and 403.

Section Number and Title:

54.5 Terms and definitions (when adopted; now 54.600(b)(1) Terms and conditions).

Subpart C—Carriers Eligible for Universal Service Support

Brief Description: Subpart C sets forth the eligibility requirements to receive universal service support. These rules address the requirements for a telecommunications carrier to be designated as an “eligible telecommunications carrier,” and thus eligible to receive federal universal service support. Specifically, these rules comprise additional mandatory requirements for ETC designation proceedings in which the Commission acts pursuant to section 214(e)(6) of the Communications Act of 1934, as amended (the Act).³

³ 47 U.S.C. 214(e)(6). Section 214(e)(6) of the Act directs the Commission to designate carriers when those carriers are not subject to the jurisdiction of a state commission.

Need: Application of these requirements allows for a more predictable ETC designation process and improve the long-term sustainability of the universal service fund.

Legal Basis: 47 U.S.C. 151, 154(i), 154(j), 155, 201-205, 214, 219, 254 303(r) and 403, and 1302.

Section Number and Title:

54.202(a)(2) and (3), (c) and (d) (when adopted; now 54.202(a)(2) and (3), (b) and (c)) Additional requirements for Commission designation of eligible telecommunications carriers.

Brief Description: These rules originally require each ETC over which the Commission has jurisdiction to submit annually certain information regarding its network and its use of universal service funds. In their current form, the rules apply to ETCs that are recipients of high cost support.

Need: These rules ensure that ETCs continue to comply with the conditions of the ETC designation and that universal service funds are used for their intended purposes.

Legal Basis: 47 U.S.C. 151, 154(i), 154(j), 201-205, 214, 254, and 403.

Section Number and Title:

54.209 (a)(1)-(6) Annual reporting requirements for designated eligible telecommunications carriers (when adopted; now 54.313(a)(1)-(6); Annual reporting requirements for high cost recipients).

Subpart D—Universal Support for High Cost Areas

Brief Description: Subpart D sets forth the regulations to provide universal service in high cost areas. These rules provide that section 54.305—concerning sales or transfers of exchanges—does not apply to transfers of exchanges between non-rural carriers after the phase down of interim hold harmless support, and that rural carriers may receive safety-valve support for investment made in the first year of operating acquired exchanges.

Need: Section 54.305(a) establishes a rule provision to reflect the fact that, after the complete phasedown of interim hold-harmless support, there is no need for section 54.305 with regard to transfers between non-rural carriers. Sections 54.305(d)(1) and (2) provide incentives for carriers not to delay first year investment in order to provide more safety valve support in later years.

Legal Basis: 47 U.S.C. 151, 154(i), 154(j), 214, 218-220, 254 and 405.

Section Number and Title:

54.305(a), (d)(1) and (2) Sale or transfer of exchanges.

Brief Description: These rules condition newly designated ETCs' eligibility for support upon the filing by the ETC of line-count data within 60 days of the carrier's ETC designation. Thereafter, the rules require the filing of data on a quarterly basis.

Need: These requirements enable customers of newly designated ETCs to begin to receive the benefits of universal service support as of the ETC's designation date and ensure that ETCs continue to comply with the conditions of the ETC designation and that universal service funds are used for their intended purposes. This rule is needed on an ongoing basis to provide a deadline for a newly designated competitive eligible telecommunications carrier to submit data required to receive universal service support. Other subsections of Section 54.307 require such a carrier to file the necessary data on a quarterly basis thereafter.

Legal Basis: 47 U.S.C. 151, 154(i), 154(j), 155, 201-205, 214, 219, 220, 254, 303(r), 403, and 1302.

Section Number and Title:

54.307(d) Support to a competitive eligible telecommunications carrier.

Subpart F—Universal Support for Schools and Libraries

Brief Description: These rules establish the matters to which applicants to the Universal Service E-rate program must certify in FCC Form 471 in order to have their applications considered and the certifications that service providers must make in FCC form 473 as a condition of support.

Need: These rules create certainty as to the criteria to which applicants must certify when completing Form 471 and serve to emphasize to potential service providers that practices that thwart the competitive bidding process will not be tolerated.

Legal Basis: 47 U.S.C. 151, 154(i), 154(j), 201-205, 214, 254, and 403.

Section Number and Title:

54.504(c)(1)(i)-(iii), (vi)-(xi) (now 54.504(a)(1)(i)-(ix); 54.504(h) (when adopted; now 54.504(f)) Requests for services.

Subpart G—Universal Support for Health Care Providers

Brief Description: Subpart G sets forth the regulations for eligible health care providers to receive universal service support. This rule allows mobile rural health care providers to receive discounts for satellite services calculated by comparing the rate for the satellite service to the rate for an urban wireline serviced with a similar bandwidth.

Need: This rule provides the support necessary to make mobile telemedicine economical for rural health care providers to provide high-quality health care to rural and remote areas. This rule is needed on an ongoing basis to calculate the support amount for mobile rural health care providers under the universal service support rules.

Legal Basis: 47 U.S.C. 151, 154(i), 154(j), 155, 201-205, 214, 219, 220, 254, 303(r), 403, and 1302.

Section Number and Title:

54.609(e) Calculating support.

Brief Description: This rule requires providers of mobile health services to maintain records for their purchases of supported services for at least five years sufficient to document their compliance with all Commission requirements.

Need: These rules further the Commission's efforts to improve its oversight of the operation of the rural health care program to ensure that the statutory goals of section 254 of the Telecommunications Act of 1996 are met.

Legal Basis: 47 U.S.C. 151, 154(i), 154(j), 201-205, 214, 254, and 403.

Section Number and Title:

54.619(a)(1) and (2) Audits and recordkeeping.

Subpart H—Administration

Brief Description: Subpart H sets forth the regulations, functions, and responsibilities for the Administrator of the universal support mechanisms. These rules require interconnected voice over internet Protocol (VoIP) providers to contribute to the universal service fund.

Need: These rules help ensure the stability and sustainability of the Universal Service Fund. This rule is needed on an ongoing basis to determine which entities are considered telecommunications carriers providing interstate telecommunications service and therefore are required to contribute to the universal service support mechanisms.

Legal Basis: 47 U.S.C. 151, 154(i), 154(j), 155, 201-205, 214, 219, 220, 254, 303(r), 403, and 1302.

Section Number and Title:

54.706(a)(18), (19) Contributions.

PART 63—EXTENSION OF LINES, NEW LINES, AND DISCONTINUANCE, REDUCTION, OUTAGE AND IMPAIRMENT OF SERVICE BY COMMON CARRIERS; AND GRANTS OF RECOGNIZED PRIVATE OPERATING AGENCY STATUS

Brief Description: The Part 63 rules set forth definitions, requirements, and conditions applicable to international Section 214 applications and authorizations to provide global facilities-based and global resale services, as well as provisions regarding requests for designation as a recognized private operating agency. The rules pertain to the regulatory classification of U.S. international carriers; notification and prior approval requirements for U.S. international carriers that are or propose to become affiliated with a foreign carrier; procedures for processing international Section 214 applications; special provisions for U.S. international common carriers; contents of applications for international common carriers; special procedures for discontinuances of international services; special provisions relating to temporary or emergency service by international carriers; and related issues. The rules also require carriers to file all notifications and other filings electronically through the International Bureau Filing System (IBFS).

Need: These rules are needed to provide the framework applicable to international Section 214 authorizations and establish the general applications, procedures, conditions and restrictions to ensure that carriers and affiliates providing services on international routes meet statutory requirements for designated global facilities-based and resale telecommunications services.

Legal Basis: 47 U.S.C. 151, 154(i), 154(j), 160, 201-205, 214, 218, 403, and 571, unless otherwise noted.

Section Number and Title:

63.09, Note 2 Definitions applicable to international Section 214 authorizations.

63.10(d), (e) Regulatory classification of U.S. international carriers.

63.11(d), (g)-(j) Notification by and prior approval for U.S. international carriers that are or propose to become affiliated with a foreign carrier.

63.12(c)(3) Processing of international Section 214 applications.

63.14(c) Prohibition on agreeing to accept special concessions.

63.17(b) introductory text, (b)(1)-(2), (b)(4) Special provisions for U.S. international common carriers.

63.18 introductory text, (e)(3), (g), Note to paragraph (h), (q) Contents of applications for international common carriers.

63.19, (d) Special procedures for discontinuances of international services.

63.20(a) Electronic filing, copies required; fees; and filing periods for international service providers.

63.21(a), (h)-(j) Conditions applicable to all international Section 214 authorizations.

63.22(a)-(c), (e)-(f) Facilities-based international common carriers.

63.23(a)-(b), (d) Resale-based international common carriers.

63.24, (e)(4), (f)(2)-(3), (h) Assignments and transfers of control.

63.25(b), (c) introductory text, (d)(2), (e) Special provisions relating to temporary or emergency service by international carriers.

63.51, (c) Additional information.

63.53(a)(1)-(2), (b)-(c) Form.

63.60(d) (currently (g)) Definitions.

63.701 introductory text, (j) Contents of application.

PART 64—MISCELLANEOUS RULES RELATING TO COMMON CARRIERS

Subpart F—Telecommunications Relay Services and Related Customer Premises Equipment for Persons with Disabilities

Brief Description: Part 64, Subpart F implements section 225 of the Communications Act of 1934, as amended. Section 225 codifies Title IV of the Americans with Disabilities Act of 1990 (ADA) which requires that the Commission ensure that telecommunications relay services (TRS) are available, “to the extent possible and in the most efficient manner,” to individuals with hearing or speech disabilities in the United States. Section 225 defines TRS as telephone transmission services that provide the ability for an individual who is deaf, hard of hearing, deaf-blind, or who has a speech disability to engage in communication by wire or radio with one or more individuals, in a manner functionally equivalent to the ability of a hearing individual who does not have a speech disability to communicate using voice communication services by wire or radio. The rules provide minimum functional, operational, and technical standards for TRS programs. The rules give states a significant role in ensuring the availability of TRS by treating carriers as compliant with their statutory obligations if they operate in a state that has a relay program certified as compliant by the Commission. The rules also establish a cost recovery and a carrier contribution mechanism (TRS Fund) for the provision of interstate TRS and require states to establish cost recovery mechanisms for the provision of intrastate TRS. In 2005, the rules were amended by adding subsection (b)(2)(iii) to section 64.604, requiring Video Relay Service (VRS) providers to comply with speed of answer requirements to be eligible for compensation from the TRS Fund. Section 64.604 also was amended by adding subsection (c)(5)(iii)(F)(4) (which has been redesignated as 64.604(c)(5)(iii)(F)(2)), requiring internet-based TRS providers (e.g., VRS and internet Protocol (IP) Relay providers) to be certified by the Commission pursuant to section 64.605 (which has been redesignated as 64.606) to be eligible for compensation from the TRS Fund.

Need: The rules are intended to facilitate communication by persons with hearing or speech disabilities by ensuring that interstate and intrastate TRS are available throughout the country, and by ensuring uniform minimum functional, operational, and technical standards for TRS programs. The rules ensure that individuals with hearing or speech disabilities receive the same quality of service as hearing individuals when they make TRS calls, regardless of where their calls originate or terminate.

Legal Basis: 47 U.S.C. 151, 152, and 225.

Section Number and Titles:

64.604(b)(2)(iii) Technical standards, Speed of answer, Speed of answer requirements for VRS providers.

64.604(c)(5)(iii)(F)(2) Functional standards, Jurisdictional separation of costs, Telecommunications Relay Services Fund, Eligibility for payment from the TRS Fund.

Subpart L—Restrictions on Telemarketing, Telephone Solicitation, and Facsimile Advertising

Brief Description: The Telephone Consumer Protection Act (TCPA) was enacted to address certain telemarketing practices, including calls to wireless telephone numbers, which Congress found to be an invasion of consumer privacy and even a risk to public safety. In the TCPA, Congress created a balance between individual privacy rights and legitimate telemarketing practices. The Commission crafted rules in 1992 to achieve this balance. Subsequently, the Commission has revised and amended the rules that it adopted in 1992 pursuant to the TCPA, including the establishment of a national do-not-call list to carry out Congress' TCPA directives. In 2004, section 64.1200(a)(1) was amended to add subsection (iv), establishing a limited safe harbor period from the prohibition on autodialed or prerecorded or artificial voice calls to wireless numbers when such calls are made to numbers that have been ported from wireline service to wireless service within the previous 15 days and are voice calls, provided the numbers are not already on the national do-not-call registry or the caller's company-specific do-not-call list.

Need: Section 64.1200(a)(1)(iv) strikes an appropriate balance between maximizing consumer privacy protections and avoiding the imposition of undue burdens on telemarketers and other callers by providing a limited time period necessary for persons, including small businesses, to identify numbers that have been ported from wireline to wireless service and, therefore, allow callers to comply with the TCPA.

Legal Basis: 47 U.S.C. 151-154, 227, and 303(r).

Section Number and Title:

64.1200(a)(1)(iv) Delivery restrictions.

Subpart X—Subscriber List Information

Brief Description: These rules allow carriers to redact portions of requested contracts that are wholly unrelated to the carrier's provision of subscriber list information and allow carriers to subject their disclosure of subscriber list information contracts to confidentiality agreements that limit access to and use of the information to the purpose of determining the rates, terms and conditions under which a carrier provides subscriber list information to its own directory publishing operations.

Need: These rules ensure that any disclosure of subscriber list information contracts will not unfairly disadvantage carriers or their directory publishing operations.

Legal Basis: 47 U.S.C. 154, 254(k); secs. 403(b)(2)(B), (c), Public Law 104-104, 110 Stat. 56. Interpret or apply 47 U.S.C. 201, 218, 222, 225, 226, 228, and 254(k).

Section Number and Title:

64.2341(d) and (e) Recordkeeping.

Subpart CC—Customer Account Record Exchange Requirements

Brief Description: The rules in Part 64, Subpart CC were issued pursuant to the Communications Act of 1934, as amended, to facilitate the exchange of customer account information between local exchange carriers (LECs) and interexchange carriers (IXCs) and to establish carriers' responsibilities with respect to such exchanges.

Need: The rules help to ensure that consumers' phone service bills are accurate and that their carrier selection requests are honored and executed without undue delay. These requirements also recognize a carrier's right to be compensated for the services it provides by ensuring that providers of long distance phone services receive proper notification when customers are placed on their networks.

Legal Basis: 47 U.S.C. 154, 201, 202, 222, and 258.

Section Number and Titles:

64.4000 Basis and purpose.

64.4001 Definitions.

64.4002 Notification obligations of LECs.

64.4003 Notification obligations of IXCs.

64.4004 Timeliness of required notifications.

64.4005 Unreasonable terms or conditions on the provision of customer account information.

64.4006 Limitations on use of customer account information.

Subpart DD—Prepaid Calling Card Providers

Brief Description: These rules establish definitions for “prepaid calling card” and “prepaid card providers” and reporting and certification requirements for prepaid calling card providers. The rules include prepaid calling card providers among the entities required to contribute to the universal service fund, and create an exemption for revenues derived from prepaid calling cards sold by, to, or pursuant to contract with the Department of Defense or a DoD entity.

Need: These rules provide regulatory certainty and ensure compliance with the Commission's access charge and USF contribution requirements.

Legal Basis: 47 U.S.C. 154, 254(k); secs. 403(b)(2)(B), (c), Public Law 104-104, 110 Stat. 56. Interpret or apply 47 U.S.C. 201, 218, 222, 225, 226, 228, and 254(k).

Section Number and Titles:

64.5000 Definitions.

64.5001 Reporting and certification requirements.

PART 73—RADIO BROADCAST SERVICES

Subpart E—Television Broadcast Stations

Brief Description: This rule provides guidance on how the Commission will determine whether TV broadcast stations are in compliance with the Children's Television Act. They were adopted collectively by the Commission to modernize its rules implementing the Act in light of the Digital TV Transition (Children's Television Obligations of Digital Television Broadcasters, Report and Order and Further Notice of Proposed Rulemaking, FCC 04-221).

Need: These rules are necessary because they provide licensees of analog and digital stations with explicit guidance on meeting their obligations under the Children's Television Act.

Legal Basis: 47 U.S.C. 154, 303, 309, 310, 334, 336, and 339.

Section Number and Titles:

73.671(c)(7), (d), (e) (73.671(f)—removed) Educational and informational programming for children.

Brief Description: This rule provides an exception for satellite carriers from certain verification requirements. It was adopted by the Commission as part of implementing the Satellite Home Viewer Extension and Reauthorization Act of 2004 (Implementation of the Satellite Home Viewer Extension and Reauthorization Act of 2004, Implementation of Section 340 of the Communications Act, Order, FCC 05-81).

Need: This rule is necessary because it provides regulatory relief for certain satellite carriers.

Legal Basis: 47 U.S.C. 154, 303, 309, 310, 334, 336, and 339.

Section Number and Title:

73.683(f) Field strength contours and presumptive determination of field strength at individual locations.

Subpart F—International Broadcast Stations

Brief Description: These rules provide frequency assignments and technical standards for certain international broadcasting stations. They were collectively adopted by the Commission to implement decisions from the World Radiocommunication Conference held in 2003 (Amendment of Parts 2, 25, and 73 of the Commission's Rules to Implement Decisions from the World Radiocommunication Conference (Geneva, 2003) (WRC-03) Concerning Frequency Bands Between 5900 khz and 27.5 ghz and to Otherwise Update The Rules in this Frequency Range, Report and Order, FCC 05-70).

Need: These rules are necessary for the operation of international broadcast stations and compliance with international agreements.

Legal Basis: 47 U.S.C. 154, 303, 309, 310, 334, 336, and 339.

Section Number and Titles:

73.702(g), (h) Assignment and use of frequencies. (73.702(g)—reserved, not in use)

73.702(f), (g)-(k) redesignated as (i)-(m); new (h) Assignment and use of frequencies.

73.757 System specifications for single-sideband (SSB) modulated emissions in the HF broadcasting service.

73.758 System specifications for digitally modulated emissions in the HF broadcasting service.

Subpart J—Class A Television Broadcast Stations

Brief Description: These rules provide technical standards and interference protection requirements for Class A TV stations. They were collectively adopted when the Commission established digital LPTV and digital translator stations as part of the Digital TV Transition (Amendment of Part 73 and Part 74 of the Commission's Rules to Establish Rules for Digital Low Power Television, Television Translator, and Television Booster Stations to Amend Rules for Digital Class A Television Stations, Report and Order, FCC 04-220).

Need: These rules are necessary to maintain localism and implement other Class A TV station rules.

Legal Basis: 47 U.S.C. 154, 303, 309, 310, 334, 336, and 339.

Section Number and Titles:

73.6000(2) Definitions.

73.6024(d) Transmission standards and system requirements.

73.6027 Class A TV notifications concerning interference to radio astronomy, research and receiving installations.

PART 74—EXPERIMENTAL RADIO, AUXILIARY, SPECIAL BROADCAST AND OTHER PROGRAM DISTRIBUTIONAL SERVICES

Subpart G—Low Power TV, TV Translator, and TV Booster Stations

Brief Description: These rules provide legal requirements and technical standards for digital low power TV (LPTV) stations, digital translator TV stations, and digital Class A TV stations. They were collectively adopted when the Commission established digital LPTV and digital translator stations as part of the Digital TV Transition (Amendment of Part 73 and Part 74 of the Commission's Rules to Establish Rules for Digital Low Power Television, Television Translator, and Television Booster Stations to Amend Rules for Digital Class A Television Stations, Report and Order, FCC 04-220).

Need: These rules are necessary for the licensing and operation of digital LPTV and digital translator stations, to protect the integrity of these stations, and to ensure that these stations do not cause harmful interference to other authorized services.

Legal Basis: 47 U.S.C. 154, 302a, 303, 307, 336 and 554.

Section Number and Titles:

74.701(j)-(p) Definitions.

74.703(f), (g) Interference.

74.710 Digital low power TV and TV translator station protection.

74.786 Digital channel assignments.

74.787 Digital licensing.

74.788 Digital construction period.

74.789 Broadcast regulations applicable to digital low power television and television translator stations.

74.790 Permissible service of digital TV translator and LPTV stations.

74.791 Digital call signs.

74.792 Digital low power TV and TV translator station protected contour.

74.793 Digital low power TV and TV translator station protection of broadcast stations.

74.794 Digital emissions.

74.795 Digital low power TV and TV translator transmission system facilities.

74.796 Modification of digital transmission systems and analog transmission systems for digital operation.

PART 76—MULTICHANNEL VIDEO AND CABLE TELEVISION SERVICE

Subpart D—Carriage of Television Broadcast Signals

Brief Description: These rules address obligations of and restrictions on satellite carriers retransmitting certain television broadcast signals, and provide guidance for television broadcast stations choosing between retransmission consent and mandatory carriage of significantly viewed signals. They were collectively adopted by the Commission as part of implementing the Satellite Home Viewer Extension and Reauthorization Act of 2004 (Implementation of the Satellite Home Viewer Extension and Reauthorization Act of 2004, Implementation of Section 340 of the Communications Act, Order, FCC 05-81; Report and Order, FCC 05-187).

Need: These rules are necessary for carrying out the Congressional mandate of the Satellite Home Viewer Extension and Reauthorization Act of 2004.

Legal Basis: 47 U.S.C. 151, 152, 153, 154, 301, 302, 302a, 303, 303a, 307, 308, 309, 312, 315, 317, 325, 338, 339, 340, 341, 503, 521, 522, 531, 532, 534, 535, 536, 537, 543, 544, 544a, 545, 548, 549, 552, 554, 556, 558, 560, 561, 571, 572, 573.

Section Number and Titles:

76.5(gg) Definitions.

76.54(e)-(k) Significantly viewed signals; method to be followed for special showings.

76.66(d)(5) Satellite broadcast signal carriage.

76.66(d)(2)(iii) Satellite broadcast signal carriage.

Subpart G—Cablecasting

Brief Description: These rules modernize rules concerning children's programming to include restrictions on displaying internet website addresses. They were adopted collectively by the Commission to modernize its rules implementing the Act in light of the Digital TV Transition (Children's Television Obligations of Digital Television Broadcasters, Report and Order and Further Notice of Proposed Rulemaking, FCC 04-221).

Need: These rules are necessary to ensure that the Commission's rules continue to respond the Congressional mandate in the Children's Television Act by protecting children from advertising directing them to internet sites.

Legal Basis: 47 U.S.C. 151, 152, 153, 154, 301, 302, 302a, 303, 303a, 307, 308, 309, 312, 315, 317, 325, 338, 339, 340, 341, 503, 521, 522, 531, 532, 534, 535, 536, 537, 543, 544, 544a, 545, 548, 549, 552, 554, 556, 558, 560, 561, 571, 572, 573.

Section Number and Title:

76.225(c)-(d) Commercial limits in children's programs.

PART 80—STATIONS IN THE MARITIME SERVICES

Subpart H—Frequencies

Brief Description: The Part 80 rules set forth the conditions under which portions of the radio spectrum are made available and licensed for stations in the maritime services. Subpart H describes the carrier frequencies and general uses of radiotelegraphy for distress, urgency, safety, call and reply, digital selective calling, narrow-band direct printing, and facsimile for stations within the maritime services.

Need: This rule designates VHF maritime Channels 87B (161.975 MHz) and 88B (162.025 MHz) for Automatic Identification Systems (AIS). The designation of Channels 87B and 88B for AIS in the United States is consistent with the establishment of a seamless global AIS framework, and facilitates the broad, efficient and effective implementation of AIS in U.S. territorial waters. The intended effect is to maximize the benefits of AIS for United States homeland security and maritime safety. The need for this rule is ongoing.

Legal Basis: 47 U.S.C. 154, 303, 307, 309 and 332.

Section Number and Title:

80.393 Frequencies for AIS stations. (Revised 2009)

PART 87—AVIATION SERVICES

Subpart D—Technical Requirements

Brief Description: The Part 87 rules set forth the conditions under which radio stations may be licensed and used in the aviation services. Subpart D rules provide the technical requirements for such radio stations.

Need: The technical requirements are needed on an ongoing basis to protect the safety of life and property in air navigation and must be periodically updated to reflect technological advancements in the aviation industry and maximize spectral efficiency while important safeguards against interference.

Legal Basis: 7 U.S.C. 154, 303 and 307(e), unless otherwise noted.

Section Number and Titles:

87.139(l) Emission limitations.

87.141(k) Modulation requirements.

Subpart F—Aircraft Stations

Brief Description: Part 87 contains the Commission rules governing aviation services. Subpart F sets forth the rules governing assignment of frequencies in those services.

Need: This rule authorizes Universal Access Transceiver data transmission on 978 MHz. The need for this rule is ongoing.

Legal Basis: 47 U.S.C. 154, 303 and 307(e).

Section Number and Title:

87.187(ff) Frequencies.

Subpart L—Aeronautical Utility Mobile Stations

Brief Description: Part 87 contains the Commission rules governing aviation services. Subpart L sets forth the rules governing aeronautical utility mobile stations.

Need: Rules 87.345(f) and 87.349(e) authorize transmissions for Universal Access Transceiver service. The need for these rules is ongoing.

Legal Basis: 47 U.S.C. 154, 303 and 307(e), unless otherwise noted.

Section Number and Titles:

87.345(f) Scope of service.

87.349(e) Frequencies.

Subpart Q—Stations in the Radiodetermination Service

Brief Description: Part 87 contains the Commission rules governing aviation services. Subpart Q sets forth the rules governing station in the Radiodetermination Service.

Need: This rule assigns the frequencies for airborne electronic aids to air navigations and associated land stations. The need for this rule is ongoing.

Legal Basis: 47 U.S.C. 154, 303 and 307(e).

Section Number and Title:

87.475(b)(9) Frequencies.

PART 90—PRIVATE LAND MOBILE RADIO SERVICES

Subpart C—Industrial/Business Radio Pool

Brief Description: Section 90.35(c)(90) set dates for FCC cessation of certain licenses in specific bands.

Need: This rule provision was enacted to transition Private Land Mobile Radio Services below 800 MHz to reflect changes in the international allocations, including consolidation of the services that distribute assignments between low-use and high-use groups more evenly, facilitates advanced technologies, and provides more efficiency and flexibility in spectrum use. The need for this rule is ongoing, insofar as it is a limitation on the 2000-25,000 kHz band in the I/B Frequency Pool in 90.35(b)(3).

Legal Basis: 47 U.S.C. 154, 302, 303 and 332.

Section Number and Title:

90.35 Industrial/Business Pool.

Subpart H—Policies Governing the Assignment of Frequencies

Brief Description: The addition of Section 90.175 clarified frequency coordinator requirements for applications for a new frequency assignment, a change in existing facilities, or operation at temporary locations, while excluding a certain number of categories from the requirements. In general, the rule requires applicants to provide all appropriate technical information, system requirements, and justification for requested station parameters, and clarifies that applicants bear the burden of proceeding and the burden of proof when requesting that the Commission overturn a coordinator's recommendation.

Need: This rule provision retained the frequency coordination requirement for incumbent licensees operating on 800 MHz General Category frequencies, and for site-based 800 MHz General Category applications filed after 800 MHz rebanding. The rule is part of a streamlining and harmonization of licensing provisions in the wireless radio services (WRS). The need for this rule is ongoing.

Legal Basis: 47 U.S.C. 154(i), 161, 303(g), 303(r) and 332(c)(7).

Section Number and Title:

90.175 Frequency coordinator requirements.

Subpart I—General Technical Standards

Brief Description: Part 90 contains service and licensing rules used in the Private Land Mobile Radio Services. Subpart I sets forth the general technical requirements for use of frequencies and equipment in the radio services governed by Part 90.

Need: The revised rules establish the general technical rules for Part 90 licensees. The need for these rules is ongoing.

Legal Basis: 47 U.S.C. 154(i), 161, 303(g), 303(r), and 332(c)(7).

Section Number and Titles:

90.203(o) Certification required.

90.210(m) Emission masks.

90.217(e) Exemption from technical standards.

Subpart K—Standards for Special Frequencies or Frequency Bands

Brief Description: Section 90.265 made additional frequencies available to a combination of Public Safety Pool and Industrial/Business Pool licenses in the bands allocated for Federal use, including forest firefighting and conservation activities, Medical Radiocommunication Systems, and other public safety activities. It also added interference complaint procedures involving the Hydro Committee referenced in the rule part concerning hydrological or meteorological data.

Need: The rule additions generally expanded the availability of frequencies while clarifying the interference complaint procedures to protect them. The need for this rule is ongoing.

Legal Basis: 47 U.S.C. 154(i), 161, 303(g), 303(r), 332(c)(7).

Section Number and Title:

90.265(a)(5-9), (c), (d), (e) Assignment and use of frequencies in the bands allocated for Federal use.

Subpart S—Regulations Governing Licensing and Use of Frequencies in the 806-824, 851-869, 896-901, and 935-940 MHz Bands

Brief Description: Part 90 states the conditions under which radiocommunications systems may be licensed and used in the Public Safety, Industrial/Business Radio Pool, Radiolocations Radio Services, and Commercial Mobile Radio Services. Subpart S sets forth the rules governing the licensing and use of frequencies in the 806-824 MHz, 851-869 MHz, 896-901 MHz, and 935-940 MHz Bands.

Need: This rule requires Economic Areas (EA) licensees operating on certain channels to construct an Enhanced Specialized Mobile Radio (ESMR) system by the license expiration date to promote efficient use of spectrum. This is an ongoing need.

Legal Basis: 47 U.S.C. 154(i), 161, 303(g), 303(r) and 332(c)(7).

Section Number and Title:

90.685(e) Authorization, construction and implementation of EA licenses.

Subpart Z—Wireless Broadband Services in the 3650-3700 MHz Band

Brief Description: Part 90 contains service and licensing rules used in the Public Safety, Industrial/Business Radio Pool, and Radiolocation Radio Services. Subpart Z contains rules that govern broadband operations in the 3650-3700 MHz.

Need: The revised rules establish the service and licensing rules for broadband operations in the 3650-3700 MHz band. The need for these rules is ongoing.

Legal Basis: 47 U.S.C. 310.

Section Number and Titles:

90.1301 Scope.

90.1303 Eligibility.

90.1305 Permissible operations.

90.1307 Licensing.

90.1309 Regulatory status.

90.1311 License term.

90.1312 Assignment and transfer.

90.1319 Policies governing the use of the 3650-3700 MHz band.

90.1321 Power and antenna limits.

90.1323 Emission limits.

90.1331 Restrictions on the operation of base and fixed stations.

90.1333 Restrictions on the operation of mobile and portable stations.

90.1335 RF safety.

90.1337 Operation near Canadian and Mexican borders.

PART 97—AMATEUR RADIO SERVICE

Subpart B—Station Operations Standards

Brief Description: Part 97 contains the Commission rules relating to amateur radio services. Subpart B sets forth station operation standards for amateur radio services.

Need: 97.111(a)(2) is needed on an ongoing basis to ensure that reliable communications are available during emergencies. 97.115(c) is needed to permit transmission of data on behalf of a third party.

Legal Basis: 47 U.S.C. 154, 303. 47 U.S.C. 151-155 and 301-609.

Section Number and Titles:

97.111(a)(2) Authorized transmissions.

97.115(c) Third party communications.

Subpart D—Technical Standards

Brief Description: The Part 97 rules set forth the conditions under which portions of the radio spectrum are made available and licensed for amateur radio service. Subpart D outlines technical standards for the frequency bands available to amateur stations.

Need: 97.303(t) is a restatement of old 97.303(p) to clarify that amateur operations must protect Federal and foreign operations in the 23 mm band. The need for this rule is ongoing.

Legal Basis: 47 U.S.C. 154 and 303.

Section Number and Title:

97.303(t) Frequency sharing requirements. (Revised 2010)

PART 101—FIXED MICROWAVE SERVICES

Subpart B—Applications and Licenses

Brief Description: Part 101 prescribes the manner in which portions of the radio spectrum may be made available for private operational, common carrier, 24 GHz Service, Local Multipoint Distribution Service, and fixed, microwave operations that require transmitting facilities on land or in specified offshore coastal areas within the continental shelf. Subpart B governs application, licensing and transition of microwave licenses under Part 101.

Need: The revised rules are related to requirements for constructing or relocating certain microwave stations (except Multichannel Video Distribution and Data Service, Local Multipoint Distribution Service, and the 24 GHz Service) under Part 101. Section 101.63(g) provides a streamlined process for MVPDs converting from analog to digital modulation to minimize duplicative costs associated with the coordination and licensing process, which is an ongoing requirement. Though section 101.69(g) is no longer needed for relocating the 1850-1990 and 2110-2150 bands, it governs the relocation of fixed microwave services in the 2160-2200 MHz band, which is an ongoing requirement for AWS-3 and AWS-4 licensees. The need for these rules is ongoing.

Legal Basis: 47 U.S.C. 154 and 303.

Section Number and Titles:

101.63(g) Period of construction; certification of completion of construction.

101.69(g) Transition of the 1850-1990 MHz, 2110-2150 MHz and 2160-2200 MHz band from the fixed microwave services to personal communications services and emerging technologies.

Subpart C—Technical Standards

Brief Description: Part 101 prescribes the manner in which portions of the radio spectrum may be made available for private operational, common carrier, 24 GHz Service, Local Multipoint Distribution Service, and fixed, microwave operations that require transmitting facilities on land or in specified offshore coastal areas within the continental shelf. Subpart C sets forth technical standards for applications and licenses in the Fixed Microwave Services.

Need: The revised rules provide the interference protection criteria for fixed stations subject to part 101 and requires that transmitters used in the private operational fixed and common carrier fixed point-to-point microwave and point-to-multipoint services under this part must be a type that has been verified for compliance. The need for these rules is ongoing.

Legal Basis: 47 U.S.C. 154, and 303.

Section Number and Titles:

101.105(a)(5) and (6) Interference protection criteria.

101.139(h) and (i) Authorization of transmitters.

[FR Doc. 2018-16282 Filed 7-30-18; 8:45 am]

BILLING CODE 6712-01-P